NUCLEAR REGULATORY COMMISSION

10 CFR Chapter 1

[NRC-2021-0173]

Operational Leakage

AGENCY: Nuclear Regulatory Commission.

ACTION: Regulatory issue summary; issuance.

SUMMARY: The U.S. Nuclear Regulatory Commission (NRC) is issuing Regulatory Issue Summary (RIS) 2022-02, “Operational Leakage.” This RIS clarifies the NRC staff's position on the NRC requirements for evaluation, control, and treatment of operational leakage in systems required to be operable by plant technical specifications (TS). This RIS is intended for all holders of operating licenses and combined licenses for nuclear power reactors, except those who have permanently ceased operations and have certified that fuel has been permanently removed from the reactor vessel. This RIS emphasizes that operational leakage must be addressed in the same manner as leakage detected during an American Society of Mechanical Engineers (ASME) Boiler and Pressure Vessel (BPV) Code, Section XI, pressure test. That is, when operational leakage is found in a system that is within the scope of ASME BPV Code, Section XI, and is required to be operable by plant TS, the component must be evaluated by the licensee for operability. Structural integrity determinations must be conducted in accordance with the applicable provisions of the original construction code, the ASME BPVC, Section XI, or otherwise addressed through authorized methods.

DATES: The RIS is available as of November 15, 2022.

ADDRESSES: Please refer to Docket ID NRC-2021-0173 when contacting the NRC about the availability of information regarding this document. You may obtain publicly available information related to this document using any of the following methods:

• Federal Rulemaking Website: Go to https://www.regulations.gov and search for Docket ID NRC-2021-0173. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• This RIS is also available on the NRC's public website at https://www.nrc.gov/reading-rm/doc-collections/gen-comm/reg-issues/ (select “2022” and then select “2022-02”).

FOR FURTHER INFORMATION CONTACT: Jay Collins, Office of Nuclear Reactor Regulation, U.S. Nuclear Regulatory Commission, Washington, DC 20555-0001, telephone: 301-415-4038, email: Jay.Collins@nrc.gov.

SUPPLEMENTARY INFORMATION: The NRC published a notice of opportunity for public comment on this RIS in the Federal Register on January 14, 2022 (87 FR 2361). The agency received comments from seven commenters. The staff considered all comments, which resulted in the addition of a paragraph to directly address the commentor's example of operational leakage from drains or instrument lines. The evaluation of these comments and the resulting changes to the RIS are discussed in a publicly available memorandum which is available in ADAMS under Accession No. ML22167A003.

RIS 2022-02, “Operational Leakage” is available in ADAMS under Accession No. ML22167A002.

As noted in the Federal Register on May 8, 2018 (83 FR 20858), this document is being published in the Rules section of the Federal Register to comply with publication requirements under 1 CFR chapter I.

Dated: November 8, 2022.
For the Nuclear Regulatory Commission.
Lisa M. Regner,
Chief, Generic Communications and Operating Experience Branch, Division of Reactor Oversight, Office of Nuclear Reactor Regulation.

[FR Doc. 2022-24750 Filed 11-14-22; 8:45 am]

BILLING CODE 7590-01-P